DEPARTMENT OF HOUSING AND URBAN DEVELOPMENT

[Docket No. FR-7015-N-05]

60-Day Notice of Proposed Information Collection: National Standards for the Physical Inspection of Real Estate (NSPIRE) Demonstration

AGENCY: Office of the Assistant Secretary for Public and Indian Housing, PIH, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment. This Information Collection was previously approved as an Emergency PRA, with the specific intent of expeditiously testing revisions to the inspection standards and protocol through a demonstration program to enable enhanced identification and resolution of health and safety deficiencies in HUD-assisted/insured housing. Due to the urgency to expedite the Emergency PRA, a mathematical error was noted in the burden requirement and corrections have been made accordingly. A revision to correct the burden hours is being requested to correct the hours from 11,950 to 12,150 burden hours.

DATES: Comments Due Date: October 15, 2019.

ADDRESSES: Interested persons are invited to submit comments regarding this proposal. Comments should refer to the proposal by name and/or OMB Control Number and should be sent to HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

A. Overview of Information Collection

Title of Information Collection: National Standards for the Physical Inspection of Real Estate (NSPIRE) Demonstration.

OMB Approval Number: 2577-0289.

Type of Request: Revision of a currently approved collection.

Form Number: N/A.

Description of the need for the information and proposed use: HUD's Real Estate Assessment Center (REAC) has developed a new inspection model entitled the National Standards for the Physical Inspection of Real Estate (NSPIRE). Prior to nationwide implementation, REAC will test NSPIRE through a multistage Demonstration to identify potential adjustments to standards, protocols, and processes. HUD will ask public housing agencies (PHAs), and owners and agents (OAs) (collectively referred to as POAs) to participate in this Demonstration through a voluntary application process and plans to test this model with approximately 4,500 properties.

HUD is developing a standardized electronic system and data exchange standard for this collection and will distribute self-inspection software for properties to collect and submit this data electronically. Within the scope of this collection, HUD requests the following information from participating POAs: An annual self-inspection report or work order receipts; a property profile; copies of building system certificates; local code violations over the rolling calendar year; and participation in feedback sessions.

1. Many POAs have statutory, regulatory, or housing program contractual requirements to conduct an annual self-inspection of the property, including all the dwelling units. POAs will be provided with self-inspection software that will enable them to easily document and submit deficiencies across the rolling calendar year. In lieu of submitting a self-inspection report, POAs can electronically submit work order receipts from across the rolling calendar year. This data provides reasonable assurance that every dwelling unit was evaluated for deficiencies and maintenance needs.

2. POAs will submit a property profile documenting the: Owner/company name, physical address, type of housing (e.g. Section 8), structure type, number of buildings, number of floors, number of units, if there is an attached garage, types of fuel-burning appliances, and an updated floor plan.

3. POAs will submit an electronic copy of all building system certificates. These certificates include but are not limited to elevators, fire alarm systems (including carbon monoxide detectors if part of the fire alarm system), sprinkler systems, boilers (HVAC or domestic water), and lead-based paint inspection reports. HUD believes that it is important for POAs to provide this information annually as the inoperability of these systems can have a substantial effect on the resident.

4. POAs will submit a list of local code violations for which the property was cited over the rolling calendar year. HUD regulations, at 24 CFR 5.703(g), require HUD housing to adhere to local code. HUD believes that compliance (or non-compliance) with local code can serve as an important indicator as to whether a property is conducting regular maintenance and whether it is providing acceptable basic housing conditions.

5. Finally, HUD will ask 900 POAs to provide feedback on the NSPIRE Demonstration via one in-person listening session. With this information, HUD will be better able to refine inspection standards and protocols, ensuring resident housing is decent, safe, sanitary, and in good repair.

Without information from the property's annual self-inspection, HUD's interests will not be protected, and HUD will not be able to easily identify risks due to neglected maintenance. Analyzing self-inspection data will allow HUD to better identify these risks and improve the accuracy of property assessments, the consistency of inspections, and ultimately to provide residents with quality affordable housing.

Respondents: POAs participating in the NSPIRE Demonstration.

Information collection | Number of respondents | Frequency of response | Responses per annum | Burden hour per response | Annual burden hours | Hourly cost per response | Annual cost
| 60,000 | Annually | 4,500 | 2.7 hours per property | 12,150 | $22.76 | $276,534

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including the use of appropriate automated collection techniques or other forms of information technology, (e.g., permitting electronic submission of responses).

HUD encourages interested parties to submit comment in response to these questions.

Authority: Section 3507 of the Paperwork Reduction Act of 1995, 44 U.S.C. Chapter 35.

Dated: August 1, 2019.
Merrie Nichols-Dixon,
Director, Office of Policy, Programs and Legislative Initiatives.

[FR Doc. 2019-17455 Filed 8-13-19; 8:45 am]

BILLING CODE 4210-67-P